DEPARTMENT OF COMMERCE

National Oceanic and Atmospheric Administration

Evaluation of State Coastal Management Programs and National Estuarine Research Reserves

AGENCY: Office for Coastal Management (OCM), National Ocean Service (NOS), National Oceanic and Atmospheric Administration (NOAA), Department of Commerce (DOC).

ACTION: Notice.

SUMMARY: The National Oceanic and Atmospheric Administration (NOAA), Office for Coastal Management will hold a public meeting to solicit comments on the performance evaluation of the Wisconsin Coastal Management Program. Notice is also hereby given of the availability of the final evaluation findings for the American Samoa, Virginia, and Florida Coastal Management Programs and Weeks Bay, San Francisco Bay, and Guana Tolomato Matanzas National Estuarine Research Reserves.

DATES: Wisconsin Coastal Management Program Evaluation: The public meeting will be held on May 31, 2017, and written comments must be received on or before June 9, 2017.

For specific dates, times, and locations of the public meetings, see SUPPLEMENTARY INFORMATION.

ADDRESSES: You may submit comments on the Wisconsin Coastal Management Program NOAA intends to evaluate by any of the following methods:

Public Meeting and Oral Comments: A public meeting will be held in Milwaukee, Wisconsin. For the specific location, see SUPPLEMENTARY INFORMATION.

Written Comments: Please direct written comments to Carrie Hall, Evaluator, Planning and Performance Measurement Program, Office for Coastal Management, NOS/NOAA, 1305 East-West Highway, 11th Floor, N/OCM1, Silver Spring, Maryland 20910, or email comments Carrie.Hall@noaa.gov.

FOR FURTHER INFORMATION CONTACT: Carrie Hall, Evaluator, Planning and Performance Measurement Program, Office for Coastal Management, NOS/NOAA, 1305 East-West Highway, 11th Floor, N/OCM1, Silver Spring, Maryland 20910, or Carrie.Hall@noaa.gov. Copies of the most recent performance report, previous evaluation findings, and 2016-2020 Assessment and Strategy may be viewed and downloaded on the Internet at http://coast.noaa.gov/czm/evaluations. A copy of the evaluation notification letter may be obtained upon request by contacting the person identified under FOR FURTHER INFORMATION CONTACT.

SUPPLEMENTARY INFORMATION: Section 312 of the Coastal Zone Management Act (CZMA) requires NOAA to conduct periodic evaluations of federally approved state and territorial coastal programs. The process includes one or more public meetings, consideration of written public comments and consultations with interested Federal, state, and local agencies and members of the public. During the evaluation, NOAA will consider the extent to which the state has met the national objectives, adhered to the management program approved by the Secretary of Commerce, and adhered to the terms of financial assistance under the CZMA. When the evaluation is completed, NOAA's Office for Coastal Management will place a notice in the Federal Register announcing the availability of the Final Evaluation Findings.

Specific information on the periodic evaluation of the state and territorial coastal program that is the subject of this notice is detailed below as follows:

Wisconsin Coastal Management Program Evaluation

You may participate or submit oral comments at the public meeting scheduled as follows:

Date: May 31, 2017.

Time: 6:00 p.m., local time.

Location: 2323 S Lincoln Memorial Dr., Milwaukee, WI 53207.

Written public comments must be received on or before June 9, 2017.

Availability of Final Evaluation Findings of Other State and Territorial Coastal Programs

The NOAA Office for Coastal Management has completed review of the Coastal Zone Management Program evaluations for the territory and states of American Samoa, Virginia, and Florida. Both states and territory were found to be implementing and enforcing their federally approved coastal management programs, addressing the national coastal management objectives identified in CZMA Section 303(2)(A)-(K), and adhering to the programmatic terms of their financial assistance awards.

The NOAA Office for Coastal Management has completed review of the National Estuarine Research Reserves evaluations for Weeks Bay, San Francisco Bay, and Guana Tolomato Matanzas and the reserves were found to be adhering to programmatic requirements of the National Estuarine Research Reserve System. Copies of these final evaluation findings may be downloaded at http://coast.noaa.gov/czm/evaluations/evaluation_findings/index.html or by submitting a written request to the person identified under FOR FURTHER INFORMATION CONTACT.

Federal Domestic Assistance Catalog 11.419 Coastal Zone Management Program Administration.

Dated: April 7, 2017.
Donna Rivelli,
Deputy Associate Assistant Administrator for Management and CFO/CAO, Ocean Services and Coastal Zone Management, National Oceanic and Atmospheric Administration.

[FR Doc. 2017-07561 Filed 4-13-17; 8:45 am]

BILLING CODE 3510-08-P